DEPARTMENT OF EDUCATION

[Docket No.: ED-2024-SCC-0061]

Agency Information Collection Activities; Submission to the Office of Management and Budget for Review and Approval; Comment Request; Federal Perkins/NDSL Loan Assignment Form

AGENCY: Federal Student Aid (FSA), Department of Education (ED).

ACTION: Notice

SUMMARY: In accordance with the Paperwork Reduction Act (PRA) of 1995, the Department is proposing an extension without change of a currently approved information collection request (ICR).

DATES: Interested persons are invited to submit comments on or before August 2, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 570-8414.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Perkins/NDSL Loan Assignment Form.

OMB Control Number: 1845-0048.

Type of Review: Extension without change of a currently approved ICR.

Respondents/Affected Public: Private Sector; State, Local, and Tribal Governments.

Total Estimated Number of Annual Responses: 144,114.

Total Estimated Number of Annual Burden Hours: 72,058.

Abstract: The U.S. Department of Education (the Department) is authorized to accept Federal Perkins Loan (Perkins Loan) Program assignments under section 463(a)(5) of the Higher Education Act of 1965, as amended. Institutions participating in the Perkins Loan program, including loans made under the National Direct/Defense Student Loan Program (NDSL), use the form (OMB Control Number 1845-0048) to assign loans to the Department for collection without recompense. This request is for approval of the assignment form which allows for assignment of Perkins Loans either individually or in a batch format, utilizing either the paper based or electronic filing format.

An institution may use the form to assign one or more loans to the Department at any time throughout the year. Some conditions under which an institution could utilize the assignment form include defaulted loans, total permanent disability discharges, voluntary withdrawal from the program, termination from the program, closure of the institution and liquidation of its Perkins Loan portfolio.

The Department is requesting an extension of the currently approved collection. There has been no change to the form. There has been a change in the number of respondents, responses, and burden hours.

Dated: June 27, 2024.
Kun Mullan,
PRA Coordinator, Strategic Collections and Clearance, Governance and Strategy Division, Office of Chief Data Officer, Office of Planning, Evaluation and Policy Development.

[FR Doc. 2024-14600 Filed 7-2-24; 8:45 am]

BILLING CODE 4000-01-P